DEPARTMENT OF HOMELAND SECURITY

Coast Guard

[Docket No. USCG-2013-0977]

Merchant Marine Personnel Advisory Committee: Intercessional Meeting

AGENCY: Coast Guard, DHS.

ACTION: Notice of Federal Advisory Committee working group meeting.

SUMMARY: A working group of the Merchant Marine Personnel Advisory Committee (MERPAC) will meet to work on Task Statement 80, concerning crew training requirements onboard vessels subject to the International Code of Safety for ships using gases or low flash-point fuels (IGF Code). This meeting will be open to the public.

DATES: A MERPAC working group will meet on January 8, 2014, and January 9, 2014, from 8 a.m. until 4 p.m. Please note that the meeting may adjourn early if all business is finished. Written comments to be distributed to working group members and placed on MERPAC's Web site are due by January 6, 2014.

ADDRESSES: The working group will meet in Room A307 of the Maritime Institute of Technology and Graduate Studies (MITAGS), 692 Maritime Boulevard, Linthicum Heights, MD 21090. For further information on the location of MITAGS or services for individuals with disabilities or to request special assistance, please contact Mr. Brian Senft at (410) 859-5700.

To facilitate public participation, we are inviting public comment on the issue to be considered by the work group, which is listed in the “Agenda” section below. Written comments must be submitted on or before January 6, 2014, and must be identified by Docket No. USCG-2013-0977, and may be submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, enter the docket number in the “Search” field and follow instructions on the Web site.

Public oral comment periods will be held during the working group meeting. Speakers are requested to limit their comments to 3 minutes. Please note that the public oral comment periods may end before the prescribed ending time following the last call for comments. Contact Gerald Miante as indicated below no later than January 6, 2014 to register as a speaker.

This notice may be viewed in our online docket, USCG-2013-0977, at http://www.regulations.gov.

FOR FURTHER INFORMATION CONTACT: Mr. Gerald Miante, Alternate Designated Federal Officer of MERPAC, telephone 202-372-1407 or at gerald.p.miante@uscg.mil. If you have any questions on viewing or submitting material to the docket, call Barbara Hairston, Program Manager, Docket Operations, telephone 202-366-9826.

SUPPLEMENTARY INFORMATION: Notice of this meeting is given under the Federal Advisory Committee Act (FACA), 5 U.S.C. Appendix (Pub. L. 92-463).

MERPAC is an advisory committee authorized under section 871 of the Homeland Security Act of 2002, Title 6, United States Code, section 451, and chartered under the provisions of the FACA. The Committee acts solely in an advisory capacity to the Secretary of the Department of Homeland Security (DHS) through the Commandant of the Coast Guard and the Director of Commercial Regulations and Standards on matters relating to personnel in the U.S. merchant marine, including but not limited to training, qualifications, certification, documentation, and fitness standards. The Committee will advise, consult with, and make recommendations reflecting its independent judgment to the Secretary.

A copy of all meeting documentation, including the Task Statement, is available at https://homeport.uscg.mil by using these key strokes: Missions; Port and Waterways Safety; Advisory Committees; MERPAC; and then use the announcements key. Alternatively, you may contact Mr. Miante as noted in the FOR FURTHER INFORMATION CONTACT section above.

Agenda

Day 1

The agenda for the January 8, 2014, working group meeting is as follows:

(1) Review and make recommendations concerning the draft International Maritime Organization (IMO) training tables and correspondence group tables for crewmembers serving onboard vessels fueled by gases or low flash-point fuels;

(2) Public comment period;

(3) Discuss and prepare proposed recommendations for the full committee to consider with regards to Task Statement 80, concerning crew training requirements onboard vessels subject to the International Code of Safety for ships using gases or low flash-point fuels (IGF Code); and

(4) Adjournment of meeting.

Day 2

The agenda for the January 9, 2014, working group meeting is as follows:

(1) Continue discussion on proposed recommendations;

(2) Public comment period;

(3) Discuss and prepare final recommendations for the full committee to consider with regards to Task Statement 80, concerning crew training requirements onboard vessels subject to the IGF Code; and

(4) Adjournment of meeting.

Dated: December 12, 2013.
J.G. Lantz,
Director of Commercial Regulations and Standards.

[FR Doc. 2013-30074 Filed 12-17-13; 8:45 am]

BILLING CODE 9110-04-P